DEPARTMENT OF AGRICULTURE

Rural Housing Service

7 CFR Parts 3550 and 3555

[Docket No. RHS-24-SFH-0034]

RIN 0575-AD32

Updating Manufactured Housing Provisions; Correction

AGENCY: Rural Housing Service, U.S. Department of Agriculture (USDA).

ACTION: Final rule; correction.

SUMMARY: The Rural Housing Service (RHS or Agency), a Rural Development (RD) agency of the United States Department of Agriculture (USDA), published a final rule on January 3, 2025, to amend the current regulations for the Single Family Housing (SFH) Direct Loan Program and the SFH Guaranteed Loan Program. The March 4, 2025, effective date of that final rule is deferred to May 5, 2025.

DATES: Effective March 4, 2025.

FOR FURTHER INFORMATION CONTACT: Sonya Evans, Finance & Loan Analyst, SFH Direct Loan Division, Rural Housing Service, Rural Development, United States Department of Agriculture, 1400 Independence Avenue SW, Washington, DC 20250, Phone: (423) 268-4333, Email: sonya.evans@usda.gov; Or contact Stephanie Freeman, Finance & Loan Analyst, Policy, Analysis, and Communications Branch, Single Family Housing Guaranteed Loan Division, Rural Housing Service, Rural Development, United States Department of Agriculture, 1400 Independence Avenue SW, Washington, DC 20250, Phone: (314) 457-6413, Email: stephanie.freeman@usda.gov.

SUPPLEMENTARY INFORMATION:

Correction

In FR Doc. 2024-30270 (Docket No. RHS-24-SFH-0034), appearing at 90 FR 199, in the Federal Register of January 3, 2025, in the third column on page 199, correct the DATES section to read:

“DATES: Effective May 5, 2025.”

Angilla Denton,
Acting Administrator, Rural Housing Service.

[FR Doc. 2025-03504 Filed 2-28-25; 11:15 am]

BILLING CODE 3410-XV-P